DEPARTMENT OF TRANSPORTATION

Surface Transportation Board

[STB Docket No. AB-999X]

Caldwell County Railroad Company—-Discontinuance of Service Exemption—in Caldwell County, NC

On March 21, 2007, Caldwell County Railroad Company (CCRC) filed with the Surface Transportation Board (Board) a petition under 49 U.S.C. 10502 for exemption from the provisions of 49 U.S.C. 10903 to discontinue service over a 5.2-mile segment of the rail line known as the HG Line, extending from milepost 107.5, near Lenoir, to the end of the line at milepost 112.7, near Valmead, in Caldwell County, NC.¹ The line traverses U.S. Postal Service Zip Code 28645, and does not include any current stations.

¹ The line segment is leased by CCRC from the Caldwell County Economic Development Commission.

The line does not contain Federally granted rights-of-way. Any documentation in CCRC's possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by July 9, 2007.

Any offer of financial assistance (OFA) to subsidize continued rail service under 49 CFR 1152.27(b)(2) will be due no later than 10 days after service of a decision granting the petition for exemption. Each OFA must be accompanied by a $1,300 filing fee. See 49 CFR 1002.2(f)(25).²

² Because this is a discontinuance of service proceeding and not an abandonment, trail use/rail banking and public use conditions are not appropriate. Similarly, no environmental or historic documentation is required under 49 CFR 1105.6(c)(2) and 1105.8(e).

All filings in response to this notice must refer to STB Docket No. AB-999X and must be sent to: (1) Surface Transportation Board, 395 E Street, SW., Washington, DC 20423-0001; and (2) Betty Jo Christian, Steptoe & Johnson, LLP, 1330 Connecticut Avenue, NW., Washington, DC 20036. Replies to the petition are due on or before April 30, 2007.

Persons seeking further information concerning discontinuance procedures may contact the Board's Office of Public Services at (202) 245-0230 or refer to the full abandonment and discontinuance regulations at 49 CFR part 1152. Questions concerning environmental issues may be directed to the Board's Section of Environmental Analysis at (202) 245-0305. [Assistance for the hearing impaired is available through the Federal Information Relay Service (FIRS) at 1-800-877-8339.]

Board decisions and notices are available on our Web site at http://www.stb.dot.gov.

Decided: April 2, 2007.
By the Board, David M. Konschnik, Director, Office of Proceedings.
Vernon A. Williams,
Secretary.

[FR Doc. E7-6482 Filed 4-9-07; 8:45 am]

BILLING CODE 4915-01-P